DEPARTMENT OF ENERGY

Agency Information Collection Reinstatement, With Change

AGENCY: U.S. Department of Energy.

ACTION: Submission for Office of Management and Budget (OMB) review; comment request

SUMMARY: Under the provisions of the Paperwork Reduction Act, the Department of Energy (DOE) has submitted a request to the Office of Management and Budget (OMB) to review and approve a reinstatement, with change, of a previously approved information collection for which approval has expired regarding reports required pursuant to the Technology Transfer Commercialization Act of 2000.

DATES: Comments regarding this collection must be received on or before May 20, 2019. If you anticipate that you will be submitting comments, but find it difficult to do so within the period of time allowed by this notice, please advise the OMB Desk Officer of your intention to make a comment as soon as possible. The Desk Officer may be telephoned at 202-395-4650.

ADDRESSES: Written comments should be sent to the DOE Desk Officer, Office of Information and Regulatory Affairs, Office of Management and Budget, New Executive Office Building, Room 10102, 735 17th Street NW, Washington, DC 20503 and to Phillip Harmonick, Office of Hearings and Appeals, U.S. Department of Energy, 1000 Independence Avenue SW, Washington, DC 20585, Fax: (202) 287-1415, Email: phillip.harmonick@hq.doe.gov. Please refer to OMB Control No. 1910-5118 in all correspondence.

FOR FURTHER INFORMATION CONTACT: Phillip Harmonick, (202) 287-1415 Email: phillip.harmonick@hq.doe.gov.

SUPPLEMENTARY INFORMATION: This information collection request contains: (1) OMB No.: 1910-5118; (2) Information Collection Request Title: Technology Transfer Commercialization Act of 2000 Reports; (3) Type of Request: Reinstatement, With Changes; (4) Purpose: DOE's Alternative Dispute Resolution Office is one of four entities required by the Technology Transfer Commercialization Act of 2000 to collect reports from technology partnership ombudsmen at each DOE national laboratory. This reinstatement ensures that required reports are collected, while reducing the burden on affected parties by streamlining the collection instrument; (5) Annual Estimated Number of Respondents: 17; (6) Annual Estimated Number of Total Responses: 68; (7) Annual Estimated Number of Burden Hours: 17; (8) Annual Estimated Reporting and Recordkeeping Cost Burden: $850.

Statutory Authority: Section 11 of the Technology Transfer Commercialization Act of 2000, Public Law 106-404, codified at 42 U.S.C. 7261c(c)(3)(C).

Signed in Washington, DC, on April 12, 2019.
Poli Marmolejos,
Director, Office of Hearings and Appeals.

[FR Doc. 2019-07917 Filed 4-18-19; 8:45 am]

BILLING CODE 6450-01-P